DEPARTMENT OF AGRICULTURE

Food and Nutrition Service

Agency Information Collection Activities: Proposed Collection; Comment Request; Food Stamp Program—Quality Control

AGENCY: Food and Nutrition Service, USDA.

ACTION: Notice.

SUMMARY: In accordance with the Paperwork Reduction Act of 1995, this notice invites the general public and other public agencies to comment on proposed information collection. This notice is an extension of the currently approved information collection burden for the Quality Control (QC) system which includes the sampling plan and the arbitration and good cause processes. This part of the QC system burden has been approved through June 30, 2001.

DATES: Written comments must be submitted on or before June 11, 2001.

ADDRESSES: Send comments and requests for copies of this information collection to: Retha Oliver, Chief, Quality Control Branch, Program Accountability Division, Food and Nutrition Service, U.S. Department of Agriculture, 3101 Park Center Drive, Alexandria, VA 22302. You may FAX comments to us at (703) 305-0928 or e-mail at Retha.Oliver@fns.usda.gov. You may also download an electronic version of this notice at http://www.fns.usda.gov/fsp/ and comment via the Internet at the same address. If you do not receive a confirmation from the system that we have received your message, contact us directly at (703) 305-2474.

Comments are invited on: (a) Whether the proposed collection of information is necessary for the proper performance of the functions of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will also become a matter of public record.

FOR FURTHER INFORMATION CONTACT: Request for additional information or copies of the information collection form and instruction should be directed to Retha Oliver, (703) 305-2474 or e-mail at Retha.Oliver@fns.usda.gov.

SUPPLEMENTARY INFORMATION: Title: Food Stamp Program Regulations, Part 275—Quality Control.

OMB Number: 0584-0303.

Expiration Date: June 30, 2001.

Type of Request: Extension of a currently approved collection of information.

Abstract: These burdens are required by Part 275 of the Food Stamp Program regulations on QC. The reporting and recordkeeping burden associated with the Food Stamp Program QC System is approved through June 30, 2001, under OMB No. 0584-0303. The approved burden for the QC system includes the burden for the QC sampling plan and the arbitration and good cause processes. The annual reporting burden associated with the QC sampling plan is 265 hours per year. The annual reporting burdens associated with arbitration and good cause processes are estimated to total 1643 and 1917 respectively. The annual recordkeeping burden associated with the QC sampling plan is 1.25 hours per year. The annual recordkeeping burdens associated with arbitration and good cause processes are estimated to total 3.89 and .28 respectively. The total annual burden for the QC system, as proposed by this notice, is 3830 hours.

The QC system contains procedures for resolving differences in review findings between State agencies and FNS. This is referred to as the arbitration process. The QC system also contains procedures which provide relief for State agencies from all or a part of a QC liability when a State agency can demonstrate that a part or all of an excessive error rate was due to an unusual event which had an uncontrollable impact on the State agency's payment error rate.

Quality Control System Reporting Burden Associated With the Sampling Plan, Arbitration, and Good Cause

1. Sampling Plan

Affected Public: State agencies.

Estimated Number of Respondents: 53.

Estimated Number of Responses Per Respondent: 1.

Estimated Time Per Response: 5 hours.

Estimated Total Annual Burden Hours: 265.

2. Arbitration Process

Affected Public: State agencies.

Estimated Number of Respondents: 53.

Estimated Number of Responses Per Respondent: 3.1.

Estimated Time Per Response: 10 hours.

Estimated Total Annual Burden Hours: 1643.

3. Good Cause Process

Affected Public: State agencies.

Estimated Number of Respondents: 53.

Estimated Number of Responses: 0.226.

Estimated Time Per Response: 160 hours.

Estimated Total Annual Burden Hours: 1917.

Quality Control System Recordkeeping Burden Associated With the Sampling Plan, Arbitration, and Good Cause

1. Sampling Plan

Estimated Number of Recordkeepers: 53.

Estimated Number of Records Per Respondent: 1.

Estimated Staff Hours Per Recordkeeping: .0236.

Estimated Total Annual Burden Hours: 1.25.

2. Arbitration Process

Estimated Number of Recordkeepers: 53.

Estimated Number of Records Per Respondent: 3.1.

Estimated Staff Hours Per Recordkeeping: .0236.

Estimated Total Annual Burden Hours: 3.89.

3. Good Cause Process

Estimated Number of Recordkeepers: 53.

Estimated Number of Records: .226.

Estimated Staff Hours Per Recordkeeping: .0236.

Estimated Total Annual Burden Hours: .28.

The Combined Quality Control System Burden (includes the burdens associated with the Sampling Plan, Arbitration and Good Cause): 3830 hours.

Dated: April 5, 2001.
George A. Braley,
Acting Administrator, Food and Nutrition Service.

[FR Doc. 01-8901 Filed 4-10-01; 8:45 am]

BILLING CODE 3410-30-U